DEPARTMENT OF LABOR

Employment and Training Administration

[TA-W-53,527 and TA-W-53,527A]

Van Dorn Demag Corp., a Division of Demag Products Group, Strongsville, Ohio, Including Employees of Van Dorn Demag Corp., a Division of Demag Products Group, Strongsville, Ohio Located in Atlanta, Georgia; Amended Notice of Revised Determination on Reconsideration Regarding Eligibility To Apply for Worker Adjustment Assistance and Alternative Trade Adjustment Assistance

In accordance with section 223 of the Trade Act of 1974 (19 U.S.C. 2273) the Department of Labor issued a Notice of Revised Determination on Reconsideration Regarding Eligibility to Apply for Worker Adjustment Assistance and Alternative Trade Adjustment Assistance on February 5, 2004, applicable to workers of Van Dorn Demag Corporation, a division of Demag Products Group, Strongsville, Ohio. The notice was published in the Federal Register on February 24, 2004 (69 FR 8493).

At the request of a company official, the Department reviewed the certification for workers of the subject firm. New information shows that workers were separated involving employees of the Strongsville, Ohio facility of Van Dorn Demag Corporation, a division of Demag Products Group located in Atlanta, Georgia. These employees provided sales support services for the production of plastic injection molding machinery at the Strongsville, Ohio location of the subject firm.

Based on these findings, the Department is amending this certification to include employees of the Strongsville, Ohio facility of Van Dorn Demag Corporation, a division of Demag Products Group, located in Atlanta, Georgia.

The intent of the Department's certification is to include all workers of Van Dorn Demag Corporation, a division of Demag Products Group, Strongsville, Ohio, who were adversely affected by increased imports.

The amended notice applicable to TA-W-53,527 is hereby issued as follows:

All workers of Van Dorn Demag Corporation, A Division of Demag Products Group, Strongsville, Ohio (TA-W-53,527), including employees of Van Dorn Corporation, A Division of Demag Products Group, Strongsville, Ohio, located in Atlanta, Georgia (TA-W-53,527A), who became totally or partially separated from employment on or after November 12, 2002, through February 5, 2006, are eligible to apply for adjustment assistance under section 223 of the Trade Act of 1974, and are also eligible to apply for alternative trade adjustment assistance under section 246 of the Trade Act of 1974.

Signed at Washington, DC, this 21st day of July, 2004.
Elliott S. Kushner,
Certifying Officer, Division of Trade Adjustment Assistance.

[FR Doc. 04-17725 Filed 8-3-04; 8:45 am]

BILLING CODE 4510-30-P